DEPARTMENT OF TRANSPORTATION

Pipeline and Hazardous Materials Safety Administration

[Docket No. PHMSA-2016-0136]

Pipeline Safety: Meeting of the Gas Pipeline Advisory Committee

AGENCY: Pipeline and Hazardous Materials Safety Administration (PHMSA), DOT.

ACTION: Notice of advisory committee meeting.

SUMMARY: This notice announces a public meeting of the Technical Pipeline Safety Standards Committee, also known as the Gas Pipeline Advisory Committee (GPAC). The GPAC will meet to discuss the gathering line component of the proposed rule titled “Safety of Gas Transmission and Gathering Pipelines.”

DATES: The GPAC will meet on June 25, 2019, from 8:30 a.m. to 5:00 p.m., ET and on June 26, 2019, from 8:30 a.m. to noon, ET. Individuals requiring accommodations, such as sign language interpretation or other ancillary aids, are asked to notify Tewabe Asebe by June 17, 2019.

ADDRESSES: The meeting will be held at the U.S. Department of Transportation, Media Center, West Building, 1200 New Jersey Ave SE, Washington, DC 20590. The agenda and any additional information for the meeting will be published on the following meeting page at https://primis.phmsa.dot.gov/meetings/MtgHome.mtg?mtg=143.

The meeting will also be webcast. Information for accessing the webcast will be posted on the meeting page at https://primis.phmsa.dot.gov/meetings/MtgHome.mtg?mtg=143. Presentations will be available on the meeting page and posted on the E-Gov website at https://www.regulations.gov/, under docket number PHMSA-2016-0136 within 30 days following the meeting.

The meeting will be open to the public. Members of the public may join in-person in a designated space at the U.S. Department of Transportation (DOT), 1200 New Jersey Avenue SE, Washington, DC 20590, or by webcast. Please note that limited space is available for in-person attendance at DOT, and procedures governing security and entrance to federal buildings may change without notice. Therefore, members of the public seeking to participate in-person must register on the meeting page at https://primis.phmsa.dot.gov/meetings/MtgHome.mtg?mtg=143.

Note: Because this is a reschedule of a previous meeting, PHMSA is keeping the public registration for that meeting. Therefore, seating is already at capacity in the Media Center. We will place the onsite registrants in a satellite location within DOT. Participant in the satellite location will view the proceedings on video and will have the opportunity to provide comments to the committee in-person. We will escort those who would like to provide comments to the Media Center and will escort them back to the satellite location after they provide the comments.

FOR FURTHER INFORMATION CONTACT: For information about the meetings, contact Tewabe Asebe, at 202-366-5523, or tewabe.asebe@dot.gov.

SUPPLEMENTARY INFORMATION:

I. Meeting Detail and Agenda

The GPAC will be considering the gathering line component of the proposed rule titled “Safety of Gas Transmission and Gathering Pipelines,” which was published in the Federal Register on April 8, 2016, (81 FR 20722) and the associated regulatory analysis. The proposed rule for gathering lines proposes to (1) repeal the use of API Recommended Practice 80 for gathering lines; (2) apply Type B requirements along with emergency requirements to newly regulated greater than 8-inch Type A gathering lines in Class 1 locations; and (3) extend the reporting requirements to all gathering lines.

Prior to this meeting, PHMSA will finalize the agenda and will publish it on the PHMSA meeting page at https://primis.phmsa.dot.gov/meetings/MtgHome.mtg?mtg=143.

II. Committee Background

The GPAC is a statutorily mandated advisory committee that advises PHMSA on proposed gas pipeline safety standards and their associated risk assessments. The committee is established in accordance with the Federal Advisory Committee Act (5 U.S.C. App. 2, as amended) and 49 U.S.C. 60115. The committee consists of 15 members with membership evenly divided among federal and state governments, the regulated industry, and the public. The committee advises PHMSA on the technical feasibility, reasonableness, cost-effectiveness, and practicability of each proposed gas pipeline safety standard.

III. Public Participation

Members of the public will be provided an opportunity to make a statement during the meeting. The proceeding will be recorded and a record of the proceeding will be made available to the public at https://www.regulations.gov.

Written Comments: Persons who wish to submit written comments on the meeting may submit them to the docket in the following ways:

E-Gov Website: https://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2016-0136 at the beginning of your comments. Note that all comments received will be posted without change to https://www.regulations.gov, including any personal information provided. Anyone can search the electronic form of all comments received into any of our dockets by the name of the individual submitting the comment (or signing the comment, if submitted on behalf of an association, business, labor union, etc.). Therefore, consider reviewing DOT's complete Privacy Act Statement in the Federal Register published on April 11, 2000, (65 FR 19477), or view the Privacy Notice at https://www.regulations.gov before submitting comments.

Docket: For docket access or to read background documents or comments, go to https://www.regulations.gov at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2016-0136.” The docket clerk will date stamp the postcard prior to returning it to you via the U.S. mail.

Privacy Act Statement

DOT may solicit comments from the public regarding certain general notices. DOT posts these comments, without edit, including any personal information the commenter provides, to https://www.regulations.gov, as described in the system of records notice (DOT/ALL-14 FDMS), which can be reviewed at https://www.dot.gov/privacy.

Services for Individuals With Disabilities

The public meetings will be physically accessible to people with disabilities. Individuals requiring accommodations, such as sign language interpretation or other ancillary aids, are asked to notify Tewabe Asebe at tewabe.asebe@dot.gov.

Issued in Washington, DC, on April 5, 2019, under authority delegated in 49 CFR 1.97.
Alan K. Mayberry,
Associate Administrator for Pipeline Safety.

[FR Doc. 2019-07131 Filed 4-10-19; 8:45 am]

BILLING CODE 4910-60-P